DEPARTMENT OF HEALTH AND HUMAN SERVICES

Centers for Disease Control and Prevention

[30Day-10-0818]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Cost and Follow-up Assessment of Administration on Aging (AoA)—Funded Fall Prevention Programs for Older Adults—Extension (OMB no. 0920-0818, exp. 7/31/10)—National Center for Injury Prevention and Control (NCIPC), Centers for Disease Control and Prevention (CDC).

Background and Brief Description

CDC received OMB approval (0920-0818) to collect data for the Cost and Follow-up Assessment of Fall Prevention Programs. This approval expires on 7/31/10. In June 2009, all Matter of Balance programs implemented a new consent form. This form asked participants for permission for CDC to contact them six months after they finished the program to complete a survey. For this reason, we will not begin administering the follow-up survey to Matter of Balance participants until January 2010. At this time we are requesting a three-year extension to collect data.

NCIPC seeks to examine cost of implementing each of the three AoA funded fall prevention programs for older adults (Stepping On, Moving for Better Balance and Matter of Balance) and to assess the maintenance of fall prevention behaviors among participants six months after completing the Matter of Balance program. To assess the maintenance of fall prevention behaviors, CDC will conduct telephone interviews of 425 Matter of Balance program participants six months after they have completed the program. The interview will assess their knowledge and self-efficacy related to falls as taught in the course, their activity and exercise levels, and their reported falls both before and after the program. The results of the follow-up assessment will determine the extent to which preventive behaviors learned during the Matter of Balance program are maintained and can continue to reduce fall risk. The cost assessment will calculate the lifecycle cost of the Stepping On, Moving for Better Balance, and Matter of Balance programs. It will also include calculating the investment costs required to implement each program, as well as the ongoing operational costs associated with each program. These costs will be allocated over a defined period of time, depending on the average or standard amount of time these programs continue to operate (standard lifecycle analysis ranges from five to 10 years). As part of the lifecycle cost calculation, these data will allow us to compare program costs and to identify specific cost drivers, cost risks, and unique financial attributes of each program. Local program coordinators for the 200 sites in each of the AoA-funded states will collect the cost data using lifecycle cost spreadsheets that will be returned to CDC for analysis. The results of these studies will support the replication and dissemination of these fall prevention programs and enable them to reach more older adults. The Survey Screen takes 3 minutes, the survey instrument takes forty-five minutes, and the cost tool takes two hours to complete.

There are no costs to respondents other than their time. The total estimated annual burden is 248 hours.

Estimated Annualized Burden Hours
Form name | Number of respondents | Number of responses per respondent | Average burden per response (in hours)
Follow-up Survey Screen for Matter of Balance—Introduction Script | 167 | 1 | 3/60
Follow-up Survey for Matter of Balance | 142 | 1 | 45/60
Cost assessment of AoA-funded fall prevention programs | 66 | 1 | 2

Dated: February 4, 2010.
Maryam I. Daneshvar,
Acting Reports Clearance Officer, Centers for Disease Control and Prevention.

[FR Doc. 2010-2908 Filed 2-9-10; 8:45 am]

BILLING CODE 4163-18-P